FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—03/27/2000
20002112 | Calsonic Corporation | Kansei Corporation | Kansei Corporation.
20002118 | AECOM Technology Corporation | Vivendi S.A | Metcalf & Eddy, Inc.
20002163 | Grotech Partners, IV, L.P | Pathnet Telecommunications, Inc | Pathnet Telecommunications, Inc.
20002246 | Northwestern Corporation | Lucent Technologies Inc | Lucent Technologies Inc.
20002254 | Thomas H. Lee Equity Fund IV, L.P | Richard T. Aab | US LEC Corp.
20002279 | Fred Hassan | Monsanto Company | Monsanto Company.
20002281 | Internet Capital Group, Inc | Breakaway Solutions, Inc | Breakaway Solutions, Inc.
20002284 | Quantum Industrial Holdings Ltd | Integra Life Sciences Holdings Corporation | Integra Life Sciences Holdings Corporation.
20002295 | Time Warner Inc | The Welk Group, Inc | Heartland Music, LP.
20002304 | North Castle Partners II, L.P | Elizabeth Arden Salon-Holdings, Inc | Elizabeth Arden Salon-Holdings, Inc.
20002308 | UICI | HealthAxis, Inc | HealthAxis, Inc.
20002311 | GTCR Fund VII, L.P | MidAmerican Energy Holdings Company | MidAmerican Security Company.
20002315 | Wind River Systems, Inc | Embedded Support Tools Corporation | Embedded Support Tools Corporation.
20002325 | Canon Inc | Energy Conversion Devices, Inc | Emergy Conversion Devices, Inc.
20002328 | The Reader's Digest Association, Inc | World's Finest Chocolate, Inc | World's Finest Chocolate, Inc.
20002333 | The Bank of New York Company, Inc | Societe Generale | SG Cowen Securities Corporation.
20002336 | William Blair Capital Partners VI, L.P | Pawnee Rotational Molding Partners VI, L.P | Borse Industries, L.P. Fremont Plastics Products, Inc. Wedco Moulded Products Company.
20002337 | Fyffes plc | C.I. Union de Bananeros de Uraba, S.A. | Turbana Corporation.
20002346 | Odwalla, Inc | Bain Capital Fund VI, L.P | Samantha Investors, LLC.
20002347 | Bain Capital Fund VI, L.P | Odwalla, Inc | Odwalla, Inc.
20002351 | Penn National Gaming, Inc | Pinnacle Entertainment, Inc | Casino Magic Corp., Boomtown, Inc.
20002354 | United Rentals, Inc | National Equipment Services, Inc | Safety Lights Sales and Leasing, Inc. of Texas.
20002355 | National Equipment Services, Inc | United Rentals (North America), Inc | NES Texoma Acquisition Corp.
20002357 | Stuart P. Olsten | Adecco SA | Adecco SA.
20002369 | Vincent L. Martin | Calender Holdings, Inc | Calender Holdings, Inc.
20002392 | Westbrand, Inc. | Robert W. Amis, Jr | Advance Acceptance Corporation.
20002393 | TPG Partners II, L.P | The Cherry Corporation | Cherry Semiconductor Corporation.
20002399 | Castle Harlan Partners III, L.P | Financiere Saint Luc | Financiere Saint Luc.
20002402 | C-MAC Industries Inc | Charterhouse Equity Partners II, L.P | A-Plus Manufacturing Corp.
20002403 | Berkshire Fund IV, Limited Partnership | Marconi plc | GEC International Limited. Maatschappij Van Berkel's Patent BV.
20002413 | Golder, Thoma, Cressey, Ruaner Fund V, L.P | Douglas T. Mergenthaler | Kwikee Products Company, Inc.
20002414 | Lowes Corporation | Continental National Corporation | Continental National Corporation.
20002416 | Richard A. Bernstein | Miller Buckeye Biscuit Company | Miller Buckeye Biscuit Company.
20002419 | Swifty Serve, LLC | Martin Resource Management Corporation, a Texas corporation | Midstream Fuel Service, Inc., an Alabama corporation.
20002440 | Elan Corporation plc | The Liposome Company, Inc | The Liposome Company, Inc.
20002441 | Safeguard Scientifics, Inc | MS Farm International, L.P | AgWeb.Com.
20002444 | Motorola, Inc | C-Port Corporation | C-Port Corporation.
20002454 | Stonington Capital Appreciation 1994 Fund, L.P | Lernout & Hauspie Speech Products N.V | Lernout & Hauspie Speech Products N.V.
20002455 | Lernout & Hauspie Speech Products N.V | Stonington Capital Appreciation 1994 Fund, L.P | Dictaphone Corporation.
Transactions Granted Early Termination—03/28/2000
20002155 | Pro Mach Holdings, L.L.C | Jack G. Swope | Rennco, Inc.
20002156 | Pro Mach Holdings, L.L.C | Stanley J. Swope | Rennco, Inc.
Transactions Granted Early Termination—03/29/2000
20001439 | Thomas W. Bedell Separate Share Trust | Johnson Worldwide Associates, Inc | Century Divestiture Co.
20002256 | Calpine Corporation | Duke Energy Corporation | Duke Energy Hidalgo Holding, Inc.
20002264 | Country Mutual Insurance Company | Mutual Service Casualty Insurance Company | Mutual Service Casualty Insurance Company.
20002301 | AT&T Corp | ICG Communications, Inc | ICG Communications, Inc.
20002302 | HMTF Bridge Partners, L.P | ICG Communications, Inc | ICG Communications, Inc.
20002303 | HMTF Equity Fund IV (1999), L.P | ICG Communications, Inc | ICG Communications, Inc.
20002307 | HealthAxis, Inc | HealthAxis.com, Inc | HealthAxis.com, Inc.
20002329 | C.H. Boehringer Sohn | Pharmacia & Upjohn Company | Pharmacia & Upjohn Company.
20002349 | Chase Manhattan Corporation (The) | Viatel, Inc | Viatel, Inc.
20002350 | Durr Aktiengesellschaft | Harald Quandt Beteiliguangen GmbH & Co | Carl Schenck AG.
20002373 | Harvest Partners III, L.P | Kevin D. Kalagher | The Finlay Brothers Company.
20002445 | LifeMinders.com, Inc | University Corporation for Atmospheric Research | WITI Corporation.
20002470 | E*Trade Group, Inc | Card Capture Services, Inc | Card Capture Services, Inc.
20002472 | Nemetschek Aktiengesellshaft | Richard Diehl | Diel Grapshsopt, Inc.
Transactions Granted Early Termination—03/30/2000
20001342 | Duke Energy Corporation | Phillips Petroleum Company | Phillips Gas Company.
20001351 | Duke Energy Corporation | Conoco Inc | Conoco Inc.
20001353 | Duke Energy Corporation | George P. Mitchell | Mitchell Gas Services, L.P.
20001354 | George P. Mitchell | Duke Energy Corporation | Duke Energy Field Services, Inc.
20001892 | Computer Associates International, Inc | Sterling Software, Inc | Sterling Software, Inc.
20002167 | Winsloew Furniture, Inc | Wabash Valley Manufacturing, Inc | Wabash Valley Manufacturing, Inc.
20002263 | Christopher Redlich, Jr | Michael J. Browning | MGM Co., Inc. MGM Transportation Services, Inc. O'Toole Transportation Works, Inc. XMGM Co., Inc. XMGM of California, Inc. XMGM of Florida, Inc.
20002285 | Century Aluminum Company | Xstrata AG | Xstrata Aluminum Corporation.
20002339 | Unicom Corporation | Thomas F. Nelson | Metropolitan Mechanical Contractors, Inc.
Transactions Granted Early Termination—03/31/2000
20002210 | Pittsburgh Tube Company | J.H. Roberts Industries, Inc | J.H. Roberts Industries, Inc.
20002320 | Bank of Montreal | Pittsburgh Tube Company | Pittsburgh Tube Company.
20002433 | Ensign Resources Service Group Inc | Gary Drilling Company | Gary Drilling Company.
Transactions Granted Early Termination—04/03/2000
20002251 | Smurfit-Stone Container Corporation | St. Laurent Paperboard Inc | St. Laurent Paperboard Inc.
20002272 | M. & G. Finanziaria Industriale S.p.A | N. V. Koninklijke Nederlandsche Petroleum Maatschappij | Crystal Polymer Ltd. Pecten Group S.A. de C.V. Shell Oil Company. Shell Polyesters LLC. SIPET S.p.A.
20002316 | Windward Capital Partners II, L.P | Mobile Storage Group, Inc | Mobile Storage Group, Inc.
20002323 | UbiquiTel Holdings, Inc | Sprint Corporation | Sprint Corporation.
20002348 | Fosters Brewing Group Limited | Klein Foods, Inc | Windsor Vineyards.
20002356 | Pequot Private Equity Fund II, L.P | Netlab L.L.C | Online Retail Partners, Inc.
20002364 | Wei Yen | ATI Technologies, Inc | ATI Technologies, Inc.
20002368 | BTG, Inc | TV Guide, Inc | SSDS, Inc.
20002371 | SOFTBANK Corp | Naviant, Inc | Naviant, Inc.
20002372 | Naviant, Inc | SOFTBANK Corp | SOFTBANK Capital Advisors Fund LP.
20002375 | Citigroup Inc | Reliance Group Holdings, Inc | Reliance Insurance Company.
20002387 | Quintus Corporation | Mustang.com, Inc | Mustang.com, Inc.
20002411 | Diamond Products Company | The Gillette Company | The Gillette Company.
20002452 | Robotic Technology Systems PLC | Bailey P. Robinson, III and Laura Sue Robinson, (spouses) | Wright Industries, Inc.
20002471 | Aarque GPC, Inc | John M. Fayad | Alkar Steel Corporation.
20002508 | The Interpublic Group of Companies, Inc | Caribiner International, Inc | Caribiner International, Inc.
Transactons Granted Early Termination—04/04/2000
20002376 | CMGI, Inc | uBid, Inc | uBid, Inc.
20002381 | Software.com, Inc | At Mobile.com, Inc | At Mobile.com, Inc.
20002383 | Windward Capital Partners II, L.P | Richard Samuels | Water Country Corporation & Bellwood Assoc., L.P.
20002384 | Windward Capital Partners II, L.P | Joseph O'Donnell | Water Country Corporation & Bellwood Assoc., L.P.
20002385 | Hanover Compressor Company | Applied Process Solutions, Incorporated | Applied Process Solutions, Incorporated.
20002386 | Russell Corporation | Toxey D. Haas | Hass Outdoors, Inc.
20002389 | John J. Fauth | TSI Incorporated | TSI Incorporated.
20002394 | Morgan Stanley Dean Witter Capital Partners IV, L.P | Texas Utilities Company d/b/a TXU Corp | TXU Processing Company.
20002395 | Berkshire Fund V, Limited Partnership | Thomas A. Ellison | TVI, Inc.
20002397 | DTE Energy Company | Covol Technologies, Inc | Mountaineer Fuel, LLC. Synfuel Investments, Inc.
20002407 | Pathology consultants of America, Inc | Questor Partners Fund, L.P | PathSOURCE, Inc.
20002408 | Questor Partners Fund, L.P | Pathology Consultants of America, Inc | Pathology Consultants of America, Inc.
20002412 | Gateway, Inc | OfficeMax, Inc | OfficeMax, Inc.
20002418 | Peter J. Callahan | Gerald Durnell and Kaye Durnell (spouses) | Pizza Expo, Inc. ProTech Publishing and Communications, Inc.
20002422 | Bain Capital Fund VI, L.P | Trustee of the Harold Brode Revocable Living Trust | Broder Bros., Co.
20002423 | Tyco International Ltd | Westlock Controls Corporation | Westlock Controls Corporation, a Delaware corporation.
20002424 | AT&T Corp | Alloy Online, Inc | Alloy Online, Inc.
20002425 | Ford Motor Company | Budget Group, Inc | Warren Wooten Ford, Inc., Paul West Ford, Inc.
20002426 | Equant N.V | NEWCO | NEWCO.
20002427 | Reuters Group PLC | NEWCO | NEWCO.
20002428 | Exact Holding N.V | Macola Technologies, Inc | Macola Technologies, Inc.
20002430 | CRH plc | Northern Ohio Paving Company | Northern Ohio Paving Company.
20002432 | Solectron Corporation | Zhone Technologies, Inc | Premisys Communications, Inc.
20002434 | Morgan Stanley Dean Witter & Co | TNT Post Group N.V | Ansett Worldwide Aviation Services.
20002436 | David E. Harvey | Connectivity Technologies, Inc | Connectivity Products Incorporated.
20002439 | Telapex, Inc | ALLTEL Corporation | ALLTEL Communications, Inc.
20002442 | Nera ASA | World Access, Inc | Cellular Infrastructure Supply, Inc. WA Telcom Products Co., Inc.
20002443 | Siemens AG | ENTEX Associates, L.P | ENTEX Information Services, Inc.
20002447 | William H. Joyce | The Dow Chemical Company | The Dow Chemical Company.
20002449 | Morgan Stanley Dean Witter & Co | The News Corporation Limited | Ansett Worldwide Aviation Services.
20002483 | United Technologies Corporation | E.C. Hunt | Thermo-Industries, Inc.
20002601 | Bayer AG | ALZA Corporation | ALZA Corporation.
Transactions Granted Early Termination—04/05/2000
20002446 | BP Amoco p.l.c | Burmah Castrol p.l.c | Burmah Castrol p.l.c.
20002517 | VS&A Communications Partners III, L.P | Data Transmission Network Corporation | Data Transmission Network Corporation.
Transactions Granted Early Termination—04/06/2000
20002367 | Warburg, Pincus, Equity Partners, L.P | Hilltopper Holding Corp | Hilltopper Holding Corp.
20002391 | Richard D. Rehm, M.D | MedicaLogic, Inc | MedicaLogic, Inc.
20002453 | Cumulus Media, Inc | William White McDonald Family GST Exempt Perpetual Trust | McDonald Media Group, Inc.
20002456 | The Hain Food Group, Inc | Celestial Seasonings, Inc | Celestial Seasonings, Inc.
20002457 | World Access, Inc | Communication TeleSystems International d/b/a WORLDxCHANGE | Communication TeleSystems International d/b/a WORLDxCHANGE.
20002458 | Iceberg Transport, S.A | World Access, Inc | World Access, Inc.
20002459 | Roger Abbott | World Access, Inc | World Access, Inc.
20002462 | UAL Corporation | Air Canada | Air Canada.
20002463 | Sonepar, S.A | Capital Lighting & Supply, Inc | Capital Lighting & Supply, Inc.
20002464 | Uni-Marts, Inc | Frank R. and Adeline Orloski | Orloski Service Station, Inc.
20002466 | VA Linux Systems, Inc | Andover.Net, Inc | Andover.Net., Inc.
20002467 | The Clayton & Dubilier Private Equity Fund IV L.P | The Drescher Corporation | The Drescher Corporation.
20002474 | Allianz Aktiengellschaft | Sol Edelstein | World Access, Inc.
20002475 | TPG Partners Ill, L.P | Quantum Bridge Communications, Inc | Quantum Bridge Communications, Inc.
20002481 | Montana Power Company | Qwest Communications International Inc | TeleDistance Holdings, Inc.
20002485 | CRH plc | Thomas H. Maddux, III | American Stone-Mix, Inc.
20002486 | Arena Capital Investment Fund, L.P | UniDial Holdings, Inc | UniDial Holdings, Inc.
20002495 | Chase Manhattan Corporation, (The) | Gabriel Communications, Inc | Gabriel Communications, Inc.
20002505 | Mohr, Davidow Ventures IV, L.P | Netcentives, Inc | Netcentives, Inc.
20002509 | Communications Ventures III, L.P | Flashcom, Inc | Flashcom, Inc.
20002511 | Mayfield IX | Flashcom, Inc | Flashcom, Inc.
20002513 | Pfingsten Executive Fund, L.P | Katherine C. Kennedy | Four Wheel Drive Hardware, Inc.
20002515 | HNC Software, Inc | The Frank Gates Companies, Inc | Celerity Technologies, Inc.
20002518 | Thames Water Plc | E'town Corporation | E'town Corporation.
20002528 | Lee R. Anderson, Sr | Gregg R. Huennekens | Alliance Fire Protection, Inc. United States Fire Protection/Illinois, Inc. United States Fire Protection/Wisconsin, Inc.
20002532 | American Securities Partners II, L.P | Metapoint Partners Fund-Ill, L.P | Vutek, Inc.
20002539 | ELIFIN, S.A | Carl-F. Bardusch | Bardusch Corporation.
20002540 | Securtiy Capital U.S. Realty | Equity Office Properties Trust | Allegheny Tower Limited Partnership. Boston Harbor Garage, L.L.C. Forbes/Allies Limited Partnership. Indianapolis Convention Ctr. Parking Ltd. Partnership.
20002541 | Thomas T. Gores | Philip C. Denzer | Process Software Corporation.
20002546 | General Electric Company | Trade Out.com, Inc | Trade Out.com, Inc.
20002547 | Horizon Capital Partners IA Limited Partnership | ED&F Man Group plc | PERT Laboratories, Inc. Seabrook Enterprises, Inc.
20002555 | NBTY, Inc | Rexall Sundown, Inc | Rexall Sundown, Inc.
20002566 | Tribune Company | The Times Mirror Company | The Times Mirror Company.
20002400 | U.S. Bancorp | John F. Allen | Oliver-Allen Corporation, Inc.
20002506 | Nashua Corporation | Andrew B. Albert | Rittenhouse Paper Company.
Transactions Granted Early Termination—04/10/2000
20002243 | Cummins Engine Company, Inc | Ben J. Strafuss | Cummins Mid-South, Inc.
20002390 | John H. Dayani, PhD | MedicaLogic, Inc | MedicaLogic, Inc.
20002437 | Matrix Partners IV, L.P | OnDisplay, Inc | OnDisplay, Inc.
20002473 | Charles E. Hurwitz | Plymouth Tube Company | Plymouth Tube Company.
20002510 | Behrmman Capital II, L.P | Flashcom, Inc | Flashcom, Inc.
20002521 | Medical Manager Corporation | Medical Mutual of Ohio | Medical Mutual of Ohio.
20002524 | URM Stores, Inc | Rosauers Employee Stock Ownership Trust | Rosauers Supermarkets, Inc.
20002550 | CGW Southeast Partners III, L.P | Printmasters, Inc | Printmasters, Inc.
20002551 | David Bing | Lear Corporation | Lear Corporation.
20002552 | Radio One, Inc | William G. Mays | IBL L.L.C.
20002556 | Z-Tel Technologies, Inc | Touch 1, Inc | Touch 1, Inc.
20002562 | Avnet, Inc | Savior Technology Group, Inc | Savior Technology Group, Inc.
20002563 | Arbella Mutual Insurance Company | Hellman & Friedman Capital Partners III, L.P | The Covenant Group, Inc.
20002565 | 24/7 Media, Inc | Exactis.com, Inc | Exactis.com, Inc.
20002569 | Softbank Technology Ventures V, L.P | TeraBeam Corporation | TeraBeam Corporation.
20002570 | Corman Foundation, Inc | Z-Tel Technologies, Inc | Z-Tel Technologies, Inc.
20002630 | Marmon Holdings, Inc | Hampshire Equity Partners II, L.P | Streater, Inc.
20002647 | Royal Bank of Canada | Prism Financial Corporation | Prism Financial Corporation.
20002679 | John F. Allen | U.S. Bancorp | U.S. Bancorp.

For Further Information Contact: Sandra M. Peay or Parcellena P. Fielding, Contact Representatives, Federal Trade Commission, Premerger Notification Office, Bureau of Competition, Room 303, Washington, DC 20580, (202) 326-3100.

By Direction of the Commission.
Donald S. Clark,
Secretary.

[FR Doc. 00-12125 Filed 5-12-00; 8:45 am]

BILLING CODE 6750-01-M